DEPARTMENT OF TRANSPORTATION

Intelligent Transportation Systems Program Advisory Committee; Notice of Meeting

AGENCY: ITS Joint Program Office, Research and Innovative Technology Administration, U.S. Department of Transportation.

ACTION: Notice.

The Intelligent Transportation Systems (ITS) Program Advisory Committee (ITSPAC) will hold a meeting by web conference on November 18, 2013, from 1:00 p.m. to 5:00 p.m. (EDT).

The ITSPAC, established under Section 5305 of Public Law 109-59, Safe, Accountable, Flexible, Efficient Transportation Equity Act: A Legacy for Users, August 10, 2005, and re-established under Section 53003 of Public Law 112-141, Moving Ahead for Progress in the 21st Century, July 6, 2012, was created to advise the Secretary of Transportation on all matters relating to the study, development, and implementation of intelligent transportation systems. Through its sponsor, the ITS Joint Program Office (JPO), the ITSPAC makes recommendations to the Secretary regarding ITS Program needs, objectives, plans, approaches, content, and progress.

The following is a summary of the meeting tentative agenda: (1) Welcome and Introductions, (2) Safety Pilot Update, (3) Review of Deployment Incentives Report, (4) Review of Draft Final Recommendations, and (5) Next Steps and Remaining Tasks.

The web conference will be open to the public, but limited conference lines will be available on a first-come, first-served basis. Members of the public who wish to participate in the web conference must request approval from Mr. Stephen Glasscock, the Committee Designated Federal Official, at (202) 366-9126, not later than November 11, 2013. You must request Mr. Glasscock's approval also to present oral statements during the web conference.

Questions about the agenda or written comments may be submitted by U.S. Mail to: U.S. Department of Transportation, Research and Innovative Technology Administration, ITS Joint Program Office, Attention: Stephen Glasscock, 1200 New Jersey Avenue SE., HOIT, Washington, DC 20590 or faxed to (202) 493-2027. The ITS Joint Program Office requests that written comments be submitted not later than November 11, 2013.

Notice of this meeting is provided in accordance with the Federal Advisory Committee Act and the General Services Administration regulations (41 CFR part 102-3) covering management of Federal advisory committees.

Issued in Washington, DC, on the 22nd day of October 2013.
John Augustine,
Managing Director, ITS Joint Program Office.

[FR Doc. 2013-25183 Filed 10-24-13; 8:45 am]

BILLING CODE 4910-HY-P